DEPARTMENT OF THE INTERIOR

Bureau of Reclamation

San Luis Unit Long-Term Contract Renewal

AGENCY: Bureau of Reclamation, Interior.

ACTION: Release of Draft Supplemental Information to the Draft Environmental Impact Statement (DEIS) for 45-day public review.

SUMMARY: The Bureau of Reclamation (Reclamation) is releasing Draft Supplemental Information to the DEIS for San Luis Unit Long-Term Contract Renewal. The notice of availability of the DEIS was published in the Federal Register on September 30, 2005 (70 FR 57324). The public comment period on the DEIS was originally to end on November 21, 2005. A notice to extend the comment period to January 17, 2006 was published in the Federal Register on December 6, 2005 (70 FR 72652). A second notice to extend the comment period to April 3, 2006 and to announce the preparation of the Supplemental Information was published in the Federal Register on January 24, 2006 (71 FR 3885).

DATES: Submit comments on the Draft Supplemental Information and the DEIS on or before April 10, 2006.

ADDRESSES: Send comments on the Draft Supplemental Information and the DEIS to Mr. Shane Hunt, Bureau of Reclamation, South-Central California Area Office, 1243 N Street, Fresno, CA 93721. Comments may also be emailed to shunt@mp.usbr.gov. The Supplemental Information and the DEIS is available on the Web at: http://www.usbr.gov/mp/nepa/ nepa_projdetails.cfm?Project_ID=63. Copies of the Supplemental Information and the DEIS may be requested by calling Mr. Hunt at 559-487-5138, TDD 559-487-5933.

FOR FURTHER INFORMATION CONTACT: Mr. Shane Hunt at 559-487-5138, TDD 559-487 5933.

SUPPLEMENTARY INFORMATION: Reclamation has prepared Supplemental Information to address issues and concerns that have been identified following the preparation of the DEIS. The Supplemental Information will be available for a 45-day review period. The public and agencies can review this information concurrently with the DEIS released on September 30, 2005, and may provide comments on the DEIS and the supplemental information in a single response. The final environmental impact statement will consider and contain responses to all substantive comments received on the DEIS and supplement. Submit comments on the Supplemental Information and the DEIS on or before April 10, 2006.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Frank Michny,
Regional Environmental Officer, Mid-Pacific Region.

[FR Doc. E6-2543 Filed 2-22-06; 8:45 am]

BILLING CODE 4310-MN-P